DEPARTMENT OF THE INTERIOR

National Park Service

[NPS-WASO-NAGPRA-NPS0027842; PPWOCRADN0-PCU00RP14.R50000]

Notice of Intent To Repatriate Cultural Items: Eiteljorg Museum of American Indians and Western Art, Indianapolis, IN

AGENCY: National Park Service, Interior.

ACTION: Notice.

SUMMARY: The Eiteljorg Museum of American Indians and Western Art (Eiteljorg Museum), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Eiteljorg Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Eiteljorg Museum at the address in this notice by July 3, 2019.

ADDRESSES: John Vanausdall, President/CEO, Eiteljorg Museum of American Indians and Western Art, 500 W Washington Street, Indianapolis, IN 46204, telephone (317) 275-1313, email jvanasudall@eiteljorg.com.

SUPPLEMENTARY INFORMATION: Notice is here given in accordance with the Native American Graves Protection and Repatriation Act (NAGPRA), 25 U.S.C. 3005, of the intent to repatriate cultural items under the control of the Eiteljorg Museum of American Indians and Western Art, Indianapolis, IN, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the mid-to late nineteenth century, four cultural items were removed from undisclosed sites in unknown counties in southeastern Alaska. Documentation regarding their removal and/or subsequent transfers prior to their accession into the Eiteljorg Museum's collection is limited. Preceding the foundation of the Eiteljorg Museum, in June 1989, by Harrison Eiteljorg, these four cultural items were part of the personal collection of Harrison Eiteljorg. The four cultural items are one Oyster Catcher Rattle, one Shaman's staff, one Clan or Shaman's Hat, and one Grave Guardian or Shaman Spirit Helper.

According to museum records, each of these four cultural items are identified as Tlingit. The Oyster Catcher Rattle was previously owned by John A. Buxton of Shango Galleries, and was purchased by Harrison Eiteljorg in November 15, 1979. The rattle, dated circa 1870, is constructed from a single piece of wood, bears black, red, and light blue pigments. It has been halved and likely hollowed out to hold what may be seeds used to create its rattling sound. A leather cord is tied at one side of the rattle. The top of the rattle represents a long-billed bird. Near the handle is a wolf spirit with a protruding tongue. The underside is carved to depict what may be a hawk. The Shaman's Staff, dated circa 1880, was purchased by Harrison Eiteljorg from Tom Julian, in June 1980. It was originally owned by Howard Roloff. It is made of carved wood, the top of which is ornamented with a killer whale design. The Shaman's Hat, dated circa 1800, in the form of a raven on top and a frog on the front, is constructed out of wood, semi-tanned hide, iron or copper alloy, fur, sinew, and paint. It was purchased by Harrison Eiteljorg from Sotheby's, Parke-Bernet in April 1981. The Shaman Spirit Helper, dated circa 1850, was purchased by Harrison Eiteljorg from Richard Rasso in June 1987. It is made of cedar, pigmented in red and black, and is adorned with human hair. It depicts a shaman holding a knife. The top of the knife is carved to resemble a facial expression.

During consultation the Central Council of the Tlingit & Haida Tribes identified the Oyster Catcher Rattle (Loogán Sheishoo), Shaman's Staff (t' Woodzakaayí), Shaman's Hat, and Shaman Spirit Helper (yéik) as cultural items used only by a shaman (íFD;t'). Shaman implements would have been interred with a shaman. As it is against Tlingit custom to grant permission to disturb or disinter a shaman's grave the Central Council believes that these four cultural items could have only been collected by removing them from a grave, and therefore, they are unassociated funerary objects. Historic and contemporary scholarly research reiterate that traditionally, Tlingit shamans were buried with their accoutrements such as rattles, staffs, hats, and spirit helpers. As indicated through museum records and consultation with the Central Council, the cultural affiliation of the four cultural items is Tlingit. According to Tlingit oral tradition, the Tlingit people have owned and occupied southeastern Alaska since time immemorial.

Determinations Made by the Eiteljorg Museum

Officials of the Eiteljorg Museum have determined that:

• Pursuant to 25 U.S.C. 3001(3)(B), the four cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Central Council of the Tlingit & Haida Indian Tribes.

Additional Requestors and Disposition

Lineal descendants or representatives of any Indian Tribe or Native Hawaiian organization not identified in this notice that wish to claim these cultural items should submit a written request with information in support of the claim to John Vanausdall, President & CEO, Eiteljorg Museum of American Indians and Western Art, 500 W Washington Street, Indianapolis, IN 46204, telephone (317) 275-1313, email jvanausdall@eiteljorg.com, by July 3, 2019. After that date, if no additional claimants have come forward, transfer of control of the unassociated funerary objects to the Central Council of the Tlingit & Haida Indian Tribes may proceed.

The Eiteljorg Museum is responsible for notifying the Angoon Community Association; Central Council of the Tlingit & Haida Indian Tribes; Chilkat Indian Village (Klukwan); Chilkoot Indian Association (Haines); Craig Tribal Association (previously listed as the Craig Community Association); Douglas Indian Association; Hoonah Indian Association; Hydaburg Cooperative Association; Ketchikan Indian Corporation; Klawock Cooperative Association; Native Village of Eyak (Cordova); Organized Village of Kake; Organized Village of Saxman; Petersburg Indian Association; Sitka Tribe of Alaska; Skagway Village; Wrangell Cooperative Association; and the Yakutat Tlingit Tribe that this notice has been published.

Dated: May 2, 2019.
Melanie O'Brien,
Manager, National NAGPRA Program.

[FR Doc. 2019-11429 Filed 5-31-19; 8:45 am]

BILLING CODE 4312-52-P